DEPARTMENT OF THE INTERIOR

Bureau of Land Management

[AZ-049-1040-JH]

Second Call for Nominations for the Gila Box Riparian National Conservation Area (NCA) Advisory Committee

AGENCY: Bureau of Land Management, Interior.

ACTION: Notice of Call for Nominations.

SUMMARY: The Bureau of Land Management (BLM) is publishing this Notice under Section 9(a)(2) of the Federal Advisory Committee Act to solicit public nominations for four members on the Gila Box Riparian NCA Advisory Committee. The Advisory Committee was created through Title 2, Section 201, of the Arizona Desert Wilderness Act of 1990 to provide informed advice to the Safford Field Manager on management of public lands in the Gila Box Riparian NCA in southeastern Arizona.

Any individual or organization may nominate one or more persons to serve on the Advisory Committee. Persons wishing to nominate themselves or other individuals should submit an application form, which is available from the BLM Safford Field Office or online at www.az.blm.gov in the News Release section. The application must include at least one letter of recommendation that addresses the nominee's qualifications.

DATES: Nominations and reference letters should be mailed to the BLM address on the application form, and must be received no later than September 30, 2004.

FOR FURTHER INFORMATION CONTACT: Jeff Wilbanks, BLM Safford Field Office, 711 14th Avenue, Safford, AZ 85546; call (928) 348-4573; or e-mail Jeff_Wilbanks@blm.gov.

SUPPLEMENTARY INFORMATION: To ensure membership of the Advisory Committee is balanced in terms of categories of interest represented, nominees must be qualified to provide advice in specific areas related to the primary purposes for which the NCA was created. These include wildlife conservation, riparian ecology, hydrology, outdoor recreation, watershed management, environmental education, cultural resources, or other related disciplines. Committee members are selected by the Secretary of the Interior to serve staggered terms of one to three years, with terms beginning on the date of appointment. The Advisory Committee will meet 2-4 times each year. Members serve without salary, but are reimbursed for travel and per diem expenses at current rates for government employees.

Dated: July 15, 2004.
Bill Brandau,
Acting Field Manager.

[FR Doc. 04-19610 Filed 8-26-04; 8:45 am]

BILLING CODE 4310-32-P